DEPARTMENT OF STATE

[Public Notice: 11901]

Determination Under Section 614(a)(1) of the Foreign Assistance Act of 1961 for Assistance To Advance Food Security and Energy Resilience and To Counter the People's Republic of China's Efforts

Pursuant to the authority vested in me by section 614(a)(1) of the Foreign Assistance Act of 1961 (FAA), and the President's Memorandum of Delegation dated August 26, 2022, I hereby determine that it is important to the security interests of the United States to use up to $205 million from the Economic Support Fund under title IX of the Department of State, Foreign Operations, and Related Programs Appropriations Act, 2021 (Div. K, Pub. L. 116-260) to furnish assistance to advance food security and energy resilience and to counter the People's Republic of China's efforts, without regard to any other provision of law within purview of section 614(a)(1) of the FAA.

This determination shall be reported to Congress and published in the Federal Register.

Dated: September 1, 2022.
Antony J. Blinken,
Secretary of State.

[FR Doc. 2022-23473 Filed 10-27-22; 8:45 am]

BILLING CODE 4710-10-P